DEPARTMENT OF STATE

[Public Notice 6194]

Determination With Respect to Countries and Entities Failing To Take Measures To Apprehend and Transfer All Indicted War Criminals

Pursuant to the authority vested in me by Section 658 of the Department of State, Foreign Operations, and Related Programs Appropriations Act, 2008 (Div. J, Pub. L. 110-161), I hereby determine that Serbia has failed to take necessary and significant steps to implement its international legal obligations to apprehend and transfer to the International Criminal Tribunal for the Former Yugoslavia all persons in its territory who have been indicted by the Tribunal.

In addition, I hereby waive the application of Section 658 of the SFOAA with regard to certain U.S. bilateral assistance programs in Serbia and determine that such assistance directly supports the implementation of the Dayton Accords. I also hereby waive the application of section 658 of the SFOAA with regard to U.S. support for International Financial Institution projects in Serbia that directly support the implementation of the Dayton Accords as decided by the Assistant Secretary for European and Eurasian Affairs and in accordance with 658(c) and (d).

This Determination shall be reported to the Congress and published in the Federal Register.

Dated: March 27, 2008.
Condoleezza Rice,
Secretary of State.

[FR Doc. E8-8592 Filed 4-18-08; 8:45 am]

BILLING CODE 4710-23-P